NATIONAL FOUNDATION ON THE ARTS AND THE HUMANITIES

National Endowment for the Arts; Arts Advisory Panel

Pursuant to Section 10(a)(2) of the Federal Advisory Committee Act (Pub. L. 92-463), as amended, notice is hereby given that eleven meetings of the Arts Advisory Panel to the National Council on the Arts will be held at the Nancy Hanks Center, 1100 Pennsylvania Avenue, NW., Washington, DC, 20506 as follows (ending times are approximate). All meetings will be closed.

Visual Arts (application review): July 6-8, 2011 in Room 716—from 9 a.m. to 5:30 p.m. on July 6th, from 9 a.m. to 6 p.m. on July 7th, and from 9 a.m. to 3:30 p.m. on July 8th.

Musical Theater (application review): July 7-8, 2011 in Room 716—from 9 a.m. to 6 p.m. on July 7th and from 9 a.m. to 3 p.m. on July 8th.

Arts Education (application review): July 12-13, 2011 in Room 627—from 9 a.m. to 6 p.m. on July 12th and from 9 a.m. to 2:30 p.m. on July 13th.

Presenting (application review): July 12-13, 2011 in Room 730—from 9 a.m. to 5:30 p.m. on July 12th and from 9 a.m. to 12:45 p.m. on July 13th.

Presenting (application review): July 13-14, 2011 in Room 730—from 2 p.m. to 5 p.m. on July 13th and from 9 a.m. to 4 p.m. on July 14th.

Opera (application review): July 13-14, 2011 in Room 716—from 8:45 a.m. to 5:30 p.m. on July 13th and from 9 a.m. to 4:30 p.m. on July 14th.

Opera (application review): July 15, 2011 in Room 730—from 8:45 a.m. to 5:30 p.m.

Theater (application review): July 19-22, 2011 in Room 716—from 9 a.m. to 5:30 p.m. on July 19th, from 9 a.m. to 6 p.m. on July 20th and 21st, and from 9 a.m. to 3 p.m. on July 22nd.

Design (application review): July 26-27, 2011 in Room 730—from 9 a.m. to 5:30 p.m. on July 26th and from 9 a.m. to 3:30 p.m. on July 27th.

Music (application review): July 26-29, 2011 in Room 714—from 9 a.m. to 5:30 p.m. on July 26th-28th and from 9 a.m. to 4:30 p.m. on July 29th.

Arts Education (application review): July 27-28, 2011 in Room 716—from 9 a.m. to 6:30 p.m. on July 27th and from 9 a.m. to 5 p.m. on July 28th.

The closed portions of meetings are for the purpose of Panel review, discussion, evaluation, and recommendations on financial assistance under the National Foundation on the Arts and the Humanities Act of 1965, as amended, including information given in confidence to the agency. In accordance with the determination of the Chairman of February 15, 2011, these sessions will be closed to the public pursuant to subsection (c)(6) of section 552b of Title 5, United States Code.

Any person may observe meetings, or portions thereof, of advisory panels that are open to the public, and if time allows, may be permitted to participate in the panel's discussions at the discretion of the panel chairman. If you need any accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC, 20506, or call 202/682-5691.

Dated: June 9, 2011.
Kathy Plowitz-Worden,
Panel Coordinator, Panel Operations, National Endowment for the Arts.

[FR Doc. 2011-14707 Filed 6-14-11; 8:45 am]

BILLING CODE 7537-01-P